DEPARTMENT OF HEALTH AND HUMAN SERVICES

Centers for Disease Control and Prevention

Notice of Meeting

Office of the Director, Centers for Disease Control and Prevention (CDC), announces the following meeting:

Name: Guide to Community Preventive Services (GCPS) Task Force Meeting.

Times and Dates: 8:30 a.m.-6:15 p.m., October 18, 2000. 8 a.m.-4:30 p.m., October 19, 2000.

Place: The D. Abbott Turner Center, 1703 Clifton Road, NE Atlanta, Georgia 30329, telephone (404) 712-6725.

Status: Open to the public, limited only by the space available. The meeting room accommodates approximately 40 people.

Purpose: The mission of the Task Force is to develop and publish a Guide to Community Preventive Services, which is based on the best available scientific evidence and current expertise regarding essential public health services and what works in the delivery of those services.

Matters to be Discussed: Agenda items include: briefings on the following: administrative matters, dissemination/implementation/evaluation plan, expansion of the Vaccine Preventable Disease Chapter, and progress on the Guide to Clinical Preventive Services; approval of recommendations for interventions from the: Oral Health, Motor Vehicle (seat belt), Diabetes, Sociocultural Environment, and Physical Activity Chapters; review chapter development for the: Nutrition, Mental Health, Sexual Behavior, Violence Prevention, Economic Effectiveness, and Methods Chapters; and review implementation projects for the: Vaccine Preventable Disease and Tobacco Use and Prevention Chapters.

Agenda items are subject to change as priorities dictate.

Contact Person for Additional Information: Stephanie Zaza, Chief, Community Guide Section, Division of Prevention Research and Analytic Methods, Epidemiology Program Office, CDC, 4770 Buford Highway, M/S K-73, Atlanta, Georgia 30341, telephone 770/488-8189. Persons interested in reserving a space for this meeting should call 770/488-8189 by close of business on October 16, 2000.

The Director, Management Analysis and Services office has been delegated the authority to sign Federal Register notices pertaining to announcements of meetings and other committee management activities, for both the Centers for Disease Control and Prevention and the Agency for Toxic Substances and Disease Registry.

Dated: October 4, 2000.
Carolyn J. Russell,
Director, Management Analysis and Services Office, Centers for Disease Control and Prevention.

[FR Doc. 00-26137 Filed 10-11-00; 8:45 am]

BILLING CODE 4163-18-P